FEDERAL COMMUNICATIONS COMMISSION

47 CFR Part 22

[RM No. 11355; FCC 07-103]

Cellular Radiotelephone Service Rules

AGENCY: Federal Communications Commission.

ACTION: Final rule.

SUMMARY: In this document, the Commission denies a petition for rulemaking seeking a two-year extension, until February 18, 2010, of the requirement that all cellular licensees provide analog service to subscribers and roamers whose equipment conforms to the Advanced Mobile Phone Service standard. It also adopts related measures to ensure the continuity of wireless coverage to affected consumers following sunset of the analog service requirement and to ensure that interested parties are fully informed of the sunset.

DATES: Effective June 15, 2007, except for the implementation of new reporting and recordkeeping requirements imposed by this action pending approval by the Office of Management and Budget.

FOR FURTHER INFORMATION CONTACT: Richard Arsenault, Wireless Telecommunications Bureau at (202) 418-0920, TTY (202) 418-7233, or via the Internet at Richard.Arsenault@fcc.gov; for additional information concerning the information collections contained in this document, contact Judith Boley-Herman at (202) 418-0214, or via the Internet at Judith.B-Herman@fcc.gov.

SUPPLEMENTARY INFORMATION: This is a summary of the Commission's Memorandum Opinion and Order, in RM No. 11355; FCC 07-103, adopted May 25, 2007, and released June 15, 2007. The complete text of this document is available for inspection and copying during normal business hours in the FCC's Reference Information Center, 445 12th Street SW., Room CY-A257, Washington, DC. Alternative formats (Braille, large print, electronic files, audio format) are available for people with disabilities by sending an e-mail to FCC504@fcc.gov or, calling the Consumer and Government Affairs Bureau at (202) 418-0530 (voice), (202) 418-0432 (TTY). The Order also may be downloaded from the Commission's Web site at http://www.fcc.gov/.

1. In this Memorandum Opinion and Order the Commission denies a Petition for Rulemaking filed by the Alarm Industry Communications Committee (AICC) and ADT Security Services, Inc. (ADT), seeking a two-year extension, until February 18, 2010, of the requirement that all cellular licensees provide analog service to subscribers and roamers whose equipment conforms to the Advanced Mobile Phone Service (AMPS) standard. This requirement will sunset on February 18, 2008 (the “analog sunset date”), but cellular licensees may continue to provide AMPS-compatible service after that date. The Commission finds that the alarm industry has sufficient time and equipment to replace all analog alarm radios that are used as a primary communications path before the analog sunset date and that the public interest would not be served by extending the analog service requirement beyond February 18, 2008. The overall effect of this action is to further the public interest by maintaining, and ensuring a smooth transition to, the scheduled analog sunset date for the public. The Commission received and considered over 70 comments on the Petition for Rulemaking in this proceeding.

2. The Commission also takes three related actions to ensure the continuity of wireless coverage to affected consumers following sunset of the analog service requirement and to ensure that interested parties are fully informed of the sunset. First, it requires all cellular licensees to notify any remaining analog service subscribers of the analog sunset. At a minimum, licensees must notify each analog-only subscriber individually of their intention to discontinue analog service at least four months before such discontinuance, and a second time, at least 30 days before such discontinuance. Second, in order to reduce the financial, administrative, and technical burdens that would be associated with filing a revised Cellular Geographic Service Area (CGSA) determination with the Commission when a carrier decommissions analog service in a CGSA, it permits licensees, in lieu of making a revised CGSA showing, to certify that the discontinuance of AMPS service will not result in any loss of wireless coverage throughout the carrier's CGSA. If a licensee cannot so certify, it must file a revised determination, and any area no longer covered by a CGSA would be forfeited and available for immediate reassignment by the Commission under its cellular unserved area rules. Third, it directs the Commission's Consumer and Governmental Affairs Bureau, in conjunction with the Wireless Telecommunications Bureau, to initiate a public outreach campaign to ensure that consumers, public safety groups, and other interested parties are aware of, and prepared for, the analog sunset in February 2008.

I. Procedural Matters

A. Paperwork Reduction Act

3. This document contains new information collection requirements subject to the Paperwork Reduction Act of 1995 (PRA), Public Law 104-13. Specifically, it requires all cellular radiotelephone service licensees to notify each analog-only subscriber individually of their intention to discontinue analog service at least four months before such discontinuance (by a billing insert, for example), and again, at least 30 days before such discontinuance (by separate letter or direct customer contact, for example). The Commission, as part of its continuing efforts to reduce paperwork burdens, invites the general public, the Office of Management and Budget (OMB) and other Federal agencies to comment on the information collection requirements contained in this Memorandum Opinion and Order, as required by the Paperwork Reduction Act of 1995, Public Law 104-13. Public and agency comments are due September 14, 2007. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.” We do not believe that the information collection burdens herein will affect a significant number of small businesses as defined in the SBPRA.

OMB Control Number: 3060-xxxx.

Title: Sunset of the Cellular Radiotelephone Service Analog Service Requirement and Related Matters.

Type of Review: New collection.

Respondents: Business or other for-profit.

Number of Respondents: 452.

Estimated Time Per Response: 12 hours.

Frequency of Response: Twice.

Obligation to Respond: Mandatory.

Total Annual Burden: 10,848 hours.

Total Annual Costs: $None.

Privacy Act Impact Assessment: None.

Nature and Extent of Confidentiality: None.

Needs and Uses: The third-party consumer notices will ensure that remaining analog-only cellular service subscribers are adequately notified of the potential loss of analog service and the need to make alternative service arrangements.

B. Report to Congress

4. The Commission will send a copy of the Memorandum Opinion and Order in a report to be sent to Congress and the Congressional Budget Office pursuant to the Congressional Review Act.

C. Ordering Clauses

Pursuant to sections 1, 2, 4(i), 4(j) and 309 of the Communications Act of 1934, as amended, 47 U.S.C. 151, 152, 154(i), 154(j) and 309, and §§ 1.403 and 22.901 of the Commission's rules, the Petition for Rulemaking filed by the Alarm Industry Communications Committee and ADT Security Services, Inc. on November 30, 2006, is denied.

Pursuant to sections 4(i), 201, and 303(r) of the Communications Act of 1934, as amended, 47 U.S.C. 154(i), 201, and 303(r); and section 5(d) of the Administrative Procedure Act, 5 U.S.C. 554(e), each cellular radiotelephone service licensee must notify each analog-only subscriber individually of their intention to discontinue Advanced Mobile Phone Service (AMPS) compatible analog service at least four months before such discontinuance, and a second time, at least 30 days before such discontinuance.

Pursuant to sections 1, 4(i), and 4(j) of the Communications Act of 1934, as amended, 47 U.S.C. 151, 154(i), and 154(j), and sections 0.131, 0.201 and 0.331 of the Commission's rules, the Consumer and Governmental Affairs Bureau, in conjunction with the Wireless Telecommunications Bureau, shall commence a public outreach campaign to ensure public awareness of the sunset of the analog service requirement.

List of Subjects in 47 CFR Part 22

Radio.

Federal Communications Commission.
Marlene H. Dortch,
Secretary.

[FR Doc. E7-13727 Filed 7-13-07; 8:45 am]

BILLING CODE 6712-01-P